DEPARTMENT OF COMMERCE

National Oceanic and Atmospheric Administration

Proposed Information Collection; Comment Request; West Coast Region Groundfish Trawl Fishery Electronic Monitoring Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 20, 2020.

ADDRESSES: Direct all written comments to Adrienne Thomas, Government Information Specialist, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Jahnava Duryea, National Marine Fisheries Service, California Central Valley Office, 650 Capital Mall, Suite 5-100, Sacramento, CA 95814, (916) 930-3725 or via email at jahnava.duryea@noaa.gov.

SUPPLEMENTARY INFORMATION:

I. Abstract

This is a revision and extension of a currently approved information collection.

The National Marine Fisheries Service (NMFS) published a final rule on June 28, 2019 (84 FR 31146), to implement an electronic monitoring (EM) program for two sectors of the limited entry trawl fishery, consistent with the Magnuson-Stevens Fishery Conservation and Management Act (MSA) and the Pacific Coast Groundfish Fishery Management Plan (FMP). The action allows catcher vessels in the Pacific whiting fishery and fixed gear vessels in the shorebased Individual Fishing Quota (IFQ) fishery to use EM in place of observers to meet the requirements of the Trawl Rationalization Program for 100-percent at-sea observer coverage. This action is necessary to increase operational flexibility and reduce monitoring costs for vessels in the trawl fishery by providing an alternative to observers.

Under this collection, some catcher vessels will have the option to use EM in place of observers to reduce total fleet monitoring costs to levels sustainable for the fleet and agency and meet the requirements for 100-pecent observer coverage at-sea. In place of an observer documenting discards onboard, captains would report estimates of their own discards on a logbook and submit them to NMFS. NMFS would use the discards reported on the logbook to debit allocations in the Vessel Accounting System (VAS) and North Pacific Database Program (NorPac). They would also install and carry and EM system to capture fishing activities at-sea. Following the trip, an analyst would review the video and report estimates of discards of allocated species to NMFS to use to audit the validity of the logbook estimates. The EM data would also be used to monitor compliance with the requirements of the catch share program. In this way, logbooks and EM systems would be used in tandem in place of observers to meet the objectives of 100-percent at-sea monitoring of the catch share program.

Vessel operators would be required to submit a logbook reporting their discards of IFQ species. NMFS would use the logbook data to debit discards of IFQ species from IFQs and cooperative allocations, and use the EM data to audit the logbook data. EM data would also be used to monitor compliance with the requirements of the catch share program. Vessel operators would be required to submit a logbook reporting their discards of IFQ species.

New requirements being added to this collection include:

EM Service Providers will be required to submit catch reports and feedback reports, and store EM data and other records.

Vessel Owners will be required to obtain services from an NMFS-permitted EM service provider to analyze and store EM data, and report it to NMFS.

II. Method of Collection

Information that would be required is specified in the regulations at 50 CFR 660.603(b)(1) and 660.604(b)(1) in the final rule 0648-BF52. Information is collected by mail, electronically, and by phone by the NMFS West Coast Region Fisheries Permit Office.

The following information is collected by mail: EM service providers: EM service provider application and renewals; EM service plan and any subsequent changes to plan; submission of two EM units and standard operating procedures (SOPs), if requested by NMFS; EM service provider appeals; and EM data storage downloaded to hard drive and shipped (not required until 2021). Vessel owners: Initial application; final application (EM system certification, tentative fishing plan, vessel monitoring plan); changes to vessel monitoring plan; and EM system certification; Vessel operators: Federal discard logbook for each landing; and hard drive submission.

The following information is collected electronically: EM service providers: EM provider reports of technical assistance requests, harassment and intimidation, and non-compliance; catch reports, feedback reports, and EM data storage uploaded to a secure website (not required until 2021); Vessel operators: One-time online EM training provided by NMFS; and federal discard logbook (if authorized in writing by NMFS).

The following information may be collected by phone: EM service providers: follow-up debriefings with EM provider employees regarding technical assistance, harassment and intimidation, or non-compliance; and ongoing program and technical support.

III. Data

OMB Control Number: 0648-0785.

Form Number(s): None.

Type of Review: Regular (revision and extension of a current approved collection).

Affected Public: Business or other for-profit organizations.

Estimated Number of Respondents: 146 (5 EM service providers, 58 vessel owners, 83 vessel operators).

Estimated Time per Response: EM service providers: Application (application form, EM service plan, submission of EM units)—5 hours; application renewals (biennial)—1 hour; EM service provider appeal—4 hours; EM service plan changes—2 hours; EM system certification—30 minutes; reports (technical assistance—40 minutes, harassment and intimidation—1 hour, compliance reports—20 minutes, catch reports—15 minutes, feedback to vessel—10 minutes, data storage—15 minutes); debrief of EM staff—2 hours 45 minutes. Vessel owners: Initial application—30 minutes; final application (updated application, EM system certification, tentative fishing plan, vessel monitoring plan)—8 hours 40 minutes; changes to vessel monitoring plan—1 hour; annual EM authorization renewal—30 minutes. Vessel operators: One-time online EM training provided by NMFS 1 hour 30 minutes; federal discard logbook for each landing; hard drive submission—10 minutes.

Estimated Total Annual Burden Hours: 7,727.

Estimated Total Annual Cost to Public: $1,721,073.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-03111 Filed 2-14-20; 8:45 am]

BILLING CODE 3510-22-P